DEPARTMENT OF COMMERCE

International Trade Administration

[A-791-821]

Antidumping Duty Order: Uncovered Innerspring Units From South Africa

AGENCY: Import Administration, International Trade Administration, Department of Commerce.

SUMMARY: Based on affirmative final determinations by the Department of Commerce and the International Trade Commission, the Department of Commerce is issuing an antidumping duty order on uncovered innerspring units from South Africa.

DATES: Effective Date: December 11, 2008.

FOR FURTHER INFORMATION CONTACT: Dmitry Vladimirov or Minoo Hatten, Import Administration, International Trade Administration, U.S. Department of Commerce, 14th Street and Constitution Avenue, NW., Washington, DC 20230; telephone: (202) 482-0665 or (202) 482-1690, respectively.

SUPPLEMENTARY INFORMATION:

Background

On October 21, 2008, the Department of Commerce (the Department) published the final determination of sales at less than fair value of uncovered innerspring units from South Africa. See Notice of Final Determination of Sales at Less Than Fair Value: Uncovered Innerspring Units from South Africa, 73 FR 62481 (October 21, 2008). On December 4, 2008, the International Trade Commission (ITC) notified the Department of its final determination pursuant to section 735(d) of the Tariff Act of 1930, as amended (the Act), that an industry in the United States is materially injured within the meaning of section 735(b)(1)(A)(i) of the Act by reason of less-than-fair-value imports of uncovered innerspring units from South Africa (Uncovered Innerspring Units from South Africa and Vietnam, Investigation Nos. 731-TA-1141-1142 (Final), USITC Publication 4051, November 2008).

Pursuant to section 736(a) of the Act, the Department is publishing an antidumping duty order on the subject merchandise.

Scope of Order

The merchandise covered by this order is uncovered innerspring units composed of a series of individual metal springs joined together in sizes corresponding to the sizes of adult mattresses (e.g., twin, twin long, full, full long, queen, California king, and king) and units used in smaller constructions, such as crib and youth mattresses. All uncovered innerspring units are included in this scope regardless of width and length. Included within this definition are innersprings typically ranging from 30.5 inches to 76 inches in width and 68 inches to 84 inches in length. Innersprings for crib mattresses typically range from 25 inches to 27 inches in width and 50 inches to 52 inches in length.

Uncovered innerspring units are suitable for use as the innerspring component in the manufacture of innerspring mattresses, including mattresses that incorporate a foam encasement around the innerspring.

Pocketed and non-pocketed innerspring units are included in this definition. Non-pocketed innersprings are typically joined together with helical wire and border rods. Non-pocketed innersprings are included in this definition regardless of whether they have border rods attached to the perimeter of the innerspring. Pocketed innersprings are individual coils covered by a “pocket” or “sock” of a nonwoven synthetic material or woven material and then glued together in a linear fashion.

Uncovered innersprings are classified under subheading 9404.29.9010 and have also been classified under subheadings 9404.10.0000, 7326.20.00.70, 7320.20.5010, or 7320.90.5010 of the Harmonized Tariff Schedule of the United States (HTSUS). The HTSUS subheadings are provided for convenience and customs purposes only; the written description of the scope of the order is dispositive.

Antidumping Duty Order

In accordance with section 736(a)(1) of the Act, the Department will direct U.S. Customs and Border Protection (CBP) to assess, upon further instruction by the Department, antidumping duties equal to the amount by which the normal value of the merchandise exceeds the export price (or the constructed export price) of the merchandise for all relevant entries of uncovered innerspring units from South Africa.

These antidumping duties will be assessed on (1) all entries of uncovered innerspring units from South Africa entered, or withdrawn from the warehouse, for consumption on or after August 6, 2008, the date on which the Department published its Notice of Preliminary Determination of Sales at Less Than Fair Value: Uncovered Innerspring Units from South Africa, 73 FR 45741 (August 6, 2008) (Preliminary Determination), through December 5, 2008, the date on which the Department is required, pursuant to section 733(d) of the Act, to terminate the suspension of liquidation, and (2) on all subject merchandise entered, or withdrawn from warehouse, for consumption on or after the date of publication of the ITC's notice of final determination in the Federal Register.

The Department will instruct CBP to terminate the suspension of liquidation and to liquidate, without regard to antidumping duties, unliquidated entries of uncovered innerspring units from South Africa entered, or withdrawn from the warehouse, for consumption subsequent to December 5, 2008, and through the day preceding the publication of the ITC's notice of final determination in the Federal Register. See section 733(d) of the Act.

Effective on the date of publication of the ITC's notice of final determination in the Federal Register, CBP officers must require, at the same time as importers would normally deposit estimated duties, cash deposits based on the rates listed below, in accordance with section 736(a)(3) of the Act.

Manufacturer or Exporter | Margin (percent)
Bedding Component Manufacturers (Pty) Ltd. | 121.39
All Others | 121.39

This notice constitutes the antidumping duty order with respect to uncovered innerspring units from South Africa, pursuant to section 736(a) of the Act. Interested parties may contact the Department's Central Records Unit, Room 1117 of the main Commerce building, for copies of an updated list of antidumping duty orders currently in effect.

This order is issued and published in accordance with section 736(a) of the Act and 19 CFR 351.211(b).

Dated: December 5, 2008.
David M. Spooner,
Assistant Secretary for Import Administration.

[FR Doc. E8-29409 Filed 12-10-08; 8:45 am]

BILLING CODE 3510-DS-P